SMALL BUSINESS ADMINISTRATION

[License No. 02/72-0634]

L Capital Partners SBIC, L.P.; Notice Seeking Exemption Under Section 312 of the Small Business Investment Act, Conflicts of Interest

Notice is hereby given that L Capital Partners SBIC, L.P., 10 East 53rd Street, 37th Floor, New York, New York 10022, a Federal Licensee under the Small Business Investment Act of 1958, as amended (“the Act”), in connection with the financing of a small concern, has sought an exemption under section 312 of the Act and section 107.730, Financings which Constitute Conflicts of Interest of the Small Business Administration (“SBA”) rules and regulations (13 CFR 107.730 (2002)). L Capital Partners SBIC, L.P. proposes to provide preferred equity security financing to Proxy Aviation, LLC, 12850 Middlebrook Road, Germantown, MD 20874. The financing is contemplated to provide the company with the necessary working capital.

The financing is brought within the purview of Sec. 107.730(a)(1) of the Regulations because Jonathan Leitersdorf, an Associate of L Capital Partners SBIC, L.P. has Control over Proxy, is Chairman of the Board of Proxy and is the sole member of Proxy. Therefore, this transaction is considered a financing of an Associate requiring prior SBA approval.

Notice is hereby given that any interested person may submit written comments on the transaction, within 15 days of the date of this publication, to the Associate Administrator for Investment, U.S. Small Business Administration, 409 Third Street, SW., Washington, DC 20416.

Jamie Guzman-Fournier,
Acting Associate Administrator for Investment.

[FR Doc. 05-5509 Filed 3-18-05; 8:45 am]

BILLING CODE 8025-01-P